DEPARTMENT OF THE INTERIOR

Bureau of Land Management

[LLAZ91000.L14300000.ET0000.LXSIURAM0000, AZA 35138]

Public Land Order No. 7787; Withdrawal of Public and National Forest System Lands in the Grand Canyon Watershed; Arizona

AGENCY: Bureau of Land Management, Interior.

ACTION: Public Land Order.

SUMMARY: This order withdraws approximately 1,006,545 acres of public and National Forest System lands from location and entry under the Mining Law of 1872, 30 U.S.C. 22-54, subject to valid existing rights, for a period of 20 years in order to protect the Grand Canyon Watershed from adverse effects of locatable mineral exploration and development.

DATES: This Order is effective on January 21, 2012.

FOR FURTHER INFORMATION CONTACT: Chris Horyza, Bureau of Land Management, Arizona State Office, One North Central Avenue, Suite 800, Phoenix, Arizona 85004, (602) 417-9446 or Liz M. Schuppert, U.S. Forest Service, Kaibab National Forest, 800 South 6th Street, Williams, Arizona 86046, (928) 635-8367. Persons who use a telecommunications device for the deaf (TDD) may call the Federal Information Relay Service (FIRS) at 1-(800) 877-8339 to reach the Bureau of Land Management or U.S. Forest Service contact during normal business hours. The FIRS is available 24 hours a day, 7 days a week, to leave a message or question with either of the above individuals. You will receive a reply during normal business hours.

SUPPLEMENTARY INFORMATION: The public and National Forest System lands described in this order are within Coconino and Mohave Counties, Arizona. The lands will remain open to the mineral leasing laws, geothermal leasing laws, mineral material sales laws, and other public land laws. Non-Federal interests within the area described are not affected by this order. If the non-Federal interests within the boundaries of the area described in this order are subsequently acquired by the United States, the non-Federal interests will become subject to the withdrawal.

Order

By virtue of the authority vested in the Secretary of the Interior by section 204 of the Federal Land Policy and Management Act of 1976, 43 U.S.C. 1714, it is ordered as follows:

1. Subject to valid existing rights, the following described public and National Forest System lands are hereby withdrawn from location and entry under the Mining Law of 1872 (30 U.S.C. 22-54), but not from the mineral leasing, geothermal leasing, mineral materials or other public land laws, in order to protect the Grand Canyon Watershed from adverse effects of locatable mineral exploration and development:

Gila and Salt River Meridian

South Parcel

T. 28 N., R. 1 E.,

Sec. 1;

Sec. 2, lots 1 and 2, S½NE¼, and SE¼;

Sec. 11, E½;

Sec. 12.

T. 29 N., R. 1 E.,

Secs. 1, 2, and, secs. 11 to 14, inclusive;

Sec. 23, E½;

Secs. 24 and 25;

Sec. 26, E½;

Sec. 35, NW¼NE¼NE¼, N½NW¼NE¼, SW¼NW¼NE¼, NW¼SE¼NW¼NE¼, NW¼NW¼SW¼NE¼, SE¼SE¼SW¼NE¼, E½SE¼NE¼, E½NW¼SE¼NE¼, SW¼SE¼NE¼, and SE¼;

Sec. 36.

T. 30 N., R. 1 E.,

Secs. 1 and 2:

Secs. 11 to 14, inclusive;

Secs. 23 to 26, inclusive;

Secs. 35 and 36.

T. 31 N., R. 1 E.,

Sec. 17, lots 2, 3, S½NE¼, W½, and SE¼;

Secs. 18, 19, and 20;

Sec. 21, lot 2, W½NE¼, SE¼NE¼, W½, and SE¼;

Secs. 27 to 35, inclusive.

T. 28 N., R. 2 E.,

Secs. 1 to 6, inclusive;

Sec. 7, excluding MS 1419;

Secs. 8 to 13, inclusive.

T. 29 N., Rs. 2, 3, and 4 E.

T. 30 N., R. 2 E.,

Secs. 2 to 11, inclusive;

Secs. 13 to 36, inclusive.

T. 27 N., R. 3 E.,

Sec. 1.

T. 28 N., R. 3 E.,

Secs. 1 to 18, inclusive;

Secs. 23 to 25, inclusive;

Sec. 36.

T. 30 N., R. 3 E.,

Secs. 15 to 36, inclusive.

T. 27 N., R. 4 E.,

Secs. 1 to 6, inclusive.

T. 28 N., Rs. 4 and 5 E.

T. 30 N., R. 4 E.,

Sec. 13, 24, 25, and 26;

Sec. 27, S½;

Sec. 28, S½;

Sec. 29, S½;

Sec. 30, lots 3 to 7, inclusive, NE¼SW¼ and N½SE¼;

Secs. 31 to 36, inclusive.

T. 27 N., R. 5 E.,

Secs. 1 to 6, inclusive.

T. 29 N., R. 5 E., partly unsurveyed.

T. 30 N., R. 5 E.,

Secs. 7 to 36, inclusive, unsurveyed.

T. 27 N., R. 6 E.,

Secs. 1 to 6, inclusive.

T. 28 N., R. 6 E.,

Secs. 2 to 11, inclusive;

Sec. 12, S½;

Secs. 13 to 36, inclusive.

T. 29 N., R. 6 E.,

Secs. 3 to 9, inclusive;

Secs. 15 and 16, unsurveyed;

Secs. 17 to 21, inclusive;

Sec. 22, unsurveyed;

Secs. 27 to 34, inclusive.

T. 30 N., R. 6 E.,

Secs. 7 to 9, inclusive;

Secs. 15 to 22, inclusive, unsurveyed;

Sec. 23, W½;

Sec. 26, W½;

Secs. 27 to 34, inclusive, unsurveyed.

T. 31 N., R. 1 W.,

Sec. 2, lots 3 and 4, S½NW¼ and SW¼;

Secs. 3, 4, 9, 10, and 11, Secs. 13 to 16, inclusive;

Secs. 21 to 28, inclusive;

Secs. 33 to 36, inclusive.

North Parcel

T. 40 N., R. 1 E.,

Secs. 4 to 9, inclusive;

Secs. 16 to 21, inclusive;

Secs. 28 to 33, inclusive.

T. 41 N., R. 1 E.

T. 38 N., R. 1 W.,

Secs. 2 to 4, inclusive, excluding that part within the Grand Canyon National Game Preserve and Kanab Creek Wilderness;

Sec. 5;

Secs. 6 to 11, inclusive, excluding that part within the Grand Canyon National Game Preserve and Kanab Creek Wilderness.

T. 39 N., R. 1 W.,

Secs. 2 to 11, inclusive;

Secs. 14 to 23, inclusive;

Secs. 26 to 35, inclusive.

Tps. 40 and 41 N., R. 1 W.

T. 38 N., R. 2 W.,

Secs. 1 to 8, inclusive, unsurveyed, excluding that part within the Grand Canyon National Game Preserve and Kanab Creek Wilderness;

Secs. 10 to 12, inclusive, unsurveyed, excluding that part within the Grand Canyon National Game Preserve and Kanab Creek Wilderness.

T. 39 N., Rs. 2 and 3 W.

T. 40 N., R. 2 W.,

Secs. 1, 2, and 3;

Secs. 10 to 15, inclusive;

Secs. 22 to 27, inclusive;

Secs. 31 to 36, inclusive.

T. 37 N., R. 3 W.,

Secs. 4 and 5, unsurveyed, excluding that part within the Grand Canyon National Game Preserve and Kanab Creek Wilderness;

Secs. 6 and 7, unsurveyed;

Secs. 8, 9, 16, and 17, unsurveyed, excluding that part within the Grand Canyon National Game Preserve and Kanab Creek Wilderness;

Secs. 18 and 19, unsurveyed;

Secs. 20 and 21, unsurveyed, excluding that part within the Grand Canyon National Game Preserve and Kanab Creek Wilderness;

Secs. 29, 30, and 31, unsurveyed, excluding that part within the Grand Canyon National Game Preserve and Kanab Creek Wilderness.

T. 38 N., R. 3 W.,

Secs. 1 to 10, inclusive;

Secs. 11 to 14, inclusive, excluding that part within the Grand Canyon National Game Preserve and Kanab Creek Wilderness;

Secs. 15 to 22, inclusive;

Secs. 23, 26, and 27, excluding that part within the Grand Canyon National Game Preserve and Kanab Creek Wilderness;

Secs. 28 to 32, inclusive;

Secs. 33 and 34, excluding that part within the Grand Canyon National Game Preserve and Kanab Creek Wilderness.

T. 40 N., R. 3 W.,

Secs. 31 to 36, inclusive.

T. 35 N., R. 4 W.,

Sec. 5, unsurveyed, excluding that part within the Grand Canyon National Game Preserve;

Secs. 6 and 7, unsurveyed;

Sec. 8, unsurveyed, excluding that part within the Grand Canyon National Game Preserve;

Sec. 17, unsurveyed, excluding that part within the Grand Canyon National Game Preserve;

Secs. 18 and 19, unsurveyed;

Sec. 20, unsurveyed, excluding the part within the Grand Canyon National Game Preserve.

T. 36 N., R. 4 W.,

Sec. 1, unsurveyed, excluding that part within the Grand Canyon National Game Preserve and Kanab Creek Wilderness;

Sec. 2, excluding that part within the Kanab Creek Wilderness;

Secs. 3 to 10, inclusive, unsurveyed;

Sec. 11, unsurveyed, excluding that part within the Kanab Creek Wilderness;

Secs. 12 and 13, unsurveyed, excluding that part within Grand Canyon National Game Preserve and Kanab Creek Wilderness;

Sec. 14, unsurveyed, excluding that part within the Kanab Creek Wilderness;

Secs. 15 to 22, inclusive, unsurveyed;

Sec. 23, unsurveyed, excluding that part within the Kanab Creek Wilderness;

Sec. 29, unsurveyed, excluding that part within the Grand Canyon National Game Preserve;

Sec. 30, unsurveyed;

Sec. 31;

Sec. 32, unsurveyed, excluding that part within the Grand Canyon National Game Preserve.

T. 37 N., R. 4 W.,

Secs. 1, 2, and 3, unsurveyed;

Sec. 4;

Secs. 5 to 8, inclusive, unsurveyed;

Sec. 9;

Secs. 10 to 15, inclusive, unsurveyed;

Secs. 16 to 18;

Secs. 19 to 22, inclusive, unsurveyed;

Secs. 23 and 24;

Secs. 25, unsurveyed;

Secs. 26, 27, and 28, unsurveyed, excluding that part within the Kanab Creek Wilderness;

Secs. 29, 30, and 31, unsurveyed;

Secs. 32 to 35, inclusive, unsurveyed, excluding that part within the Kanab Creek Wilderness;

Sec. 36, unsurveyed, excluding that part within the Grand Canyon National Game Preserve and Kanab Creek Wilderness.

Tps. 38 and 39 N., R. 4 W.,

T. 40 N., R. 4 W.,

Secs. 31 to 36, inclusive.

T. 35 N., R. 5 W.,

Secs. 1 to 24, inclusive.

T. 36 N., Rs. 5 and 6 W.

Tps. 37 to 39 N., Rs. 5 to 7 W.

T. 40 N., R. 5 W.,

Secs. 31 to 36, inclusive.

T. 35 N., R. 6 W.,

Secs. 1 to 24, inclusive.

T. 35 N. R. 7 W.,

Secs. 1 and 2;

Secs. 3 to 6, inclusive, excluding that part within the Grand Canyon-Parashant National Monument;

Secs. 9 and 10, excluding that part within the Grand Canyon-Parashant National Monument;

Secs. 11 to 15, inclusive;

Secs. 16, 21, 22, and 23, excluding that part within the Grand Canyon-Parashant National Monument;

Sec. 24;

Secs. 27 and 28, excluding that part within the Grand Canyon-Parashant National Monument.

T. 36 N., R. 7 W.,

Secs. 1 to 32, inclusive;

Secs. 33 and 34, excluding that part within the Grand Canyon-Parashant National Monument;

Secs. 35 and 36.

East Parcel

T. 37 N., R. 3 E.,

Sec. 1, unsurveyed;

Secs. 2 and 11 unsurveyed, excluding that part within the Grand Canyon National Game Preserve;

Secs. 12 and 13, unsurveyed;

Sec. 14, unsurveyed, excluding that part within the Grand Canyon National Game Preserve.

T. 38 N., R. 3 E.,

Secs. 1 and 2, excluding that part within the Vermilion Cliffs National Monument;

Sec. 3, unsurveyed;

Secs. 4 and 9, unsurveyed, excluding that part within the Grand Canyon National Game Preserve;

Secs. 10 and 11, unsurveyed;

Sec. 12;

Secs. 13 to 15, inclusive, unsurveyed;

Secs. 16 and 21, unsurveyed, excluding that part within the Grand Canyon National Game Preserve;

Secs. 22 to 27, inclusive, unsurveyed;

Secs. 28 and 35, unsurveyed, excluding that part within the Grand Canyon National Game Preserve;

Sec. 36, unsurveyed.

T. 39 N., R. 3 E.,

Sec. 4, excluding that part within the Grand Canyon National Game Preserve and the Vermilion Cliffs National Monument;

Secs. 5 and 8, inclusive, excluding that part within the Grand Canyon National Game Preserve;

Secs. 9 and 15, inclusive, excluding that part within the Vermilion Cliffs National Monument;

Sec. 16;

Secs. 17 and 20, excluding that part within the Grand Canyon National Game Preserve;

Sec. 21;

Secs. 22 and 27, excluding that part within the Vermilion Cliffs National Monument;

Sec. 28;

Secs. 29 and 32, excluding that part within the Grand Canyon National Game Preserve;

Secs. 33 and 34;

Sec. 35, excluding that part within the Vermilion Cliffs National Monument.

T. 40 N., R. 3 E.,

Secs. 3, 10, and 15, excluding that part within the Vermilion Cliffs National Monument;

Sec. 21, unsurveyed, excluding that part within the Grand Canyon National Game Preserve;

Secs. 22 and 27, excluding that part within the Vermilion Cliffs National Monument;

Secs. 28 and 33, unsurveyed, excluding that part within the Grand Canyon National Game Preserve.

T. 36 N., R. 4 E.,

Secs. 1 to 5, inclusive;

Secs. 6 and 7, excluding that part within the Grand Canyon National Game Preserve;

Secs. 8 to 17, inclusive;

Secs. 18 to 24, inclusive, excluding that part within the Grand Canyon National Game Preserve.

T. 37 N., R. 4 E.,

Secs. 1 to 18, inclusive;

Sec. 19, excluding that part within the Grand Canyon National Game Preserve;

Secs. 20 to 29, inclusive;

Secs. 30 and 31, excluding that part within the Grand Canyon National Game Preserve;

Secs. 32 to 36, inclusive.

T. 38 N., R. 4 E.,

Secs. 5 and 6, excluding that part within the Vermilion Cliffs National Monument;

Sec. 7;

Secs. 8 to 13, inclusive, excluding that part within the Vermilion Cliffs National Monument;

Secs. 14 to 36, inclusive.

T. 36 N., R. 5 E.,

Sec. 2, unsurveyed, excluding that part within the Grand Canyon National Park;

Secs. 3 to 9, inclusive;

Sec. 10, partly surveyed, excluding that part within the Grand Canyon National Park;

Secs. 11 and 15, unsurveyed, excluding that part within the Grand Canyon National Park;

Sec. 16, excluding that part within the Grand Canyon National Park;

Sec. 17;

Sec. 18, excluding that part within the Grand Canyon National Park;

Sec. 19, partly unsurveyed, excluding that part within the Grand Canyon National Park and the Grand Canyon National Game Preserve;

Sec. 20, unsurveyed, excluding that part within the Grand Canyon National Game Preserve and the Grand Canyon National Park;

Secs. 21, unsurveyed, excluding that part within the Grand Canyon National Park.

T. 37 N., R. 5 E.,

Secs. 1 to 12, inclusive;

Sec. 13, excluding that part within the Grand Canyon National Park;

Secs. 14 to 24, inclusive;

Sec. 25, unsurveyed, excluding that part within the Grand Canyon National Park;

Secs. 26 to 34, inclusive;

Sec. 35, partly unsurveyed, excluding that part within the Grand Canyon National Park;

Sec. 36, unsurveyed, excluding that part within the Grand Canyon National Park and Navajo Indian Reservation.

T. 38 N., R. 5 E.,

Secs. 13 and 14, 16 to 18, inclusive, excluding that part within the Vermilion Cliffs National Monument;

Secs. 19 and 20;

Secs. 21, 22, and 23, excluding that part within the Vermilion Cliffs National Monument;

Secs. 24 to 36, inclusive.

T. 37 N., R. 6 E.,

Sec. 4, unsurveyed, excluding that part within the Grand Canyon National Park and Navajo Indian Reservation;

Sec. 5, partly unsurveyed, excluding that part within the Grand Canyon National Park;

Sec. 6;

Sec. 7, excluding that part within the Grand Canyon National Park;

Sec. 8, partly unsurveyed, excluding that part within the Grand Canyon National Park;

Sec. 9, unsurveyed, excluding that part within the Grand Canyon National Park and Navajo Indian Reservation;

Sec. 17, partly unsurveyed, excluding that part within the Grand Canyon National Park;

Sec. 18, excluding that part within the Grand Canyon National Park;

Sec. 19, partly unsurveyed, excluding that part within the Grand Canyon National Park;

Secs. 20 and 30, unsurveyed, excluding that part within the Grand Canyon National Park and Navajo Indian Reservation.

T. 38 N., R. 6 E.,

Sec. 1, unsurveyed, excluding that part within the Grand Canyon National Park and Navajo Indian Reservation;

Secs. 2 and 3, excluding that part within the Grand Canyon National Park;

Secs. 4, 5, 7, and 8, excluding that part within the Vermilion Cliffs National Monument;

Secs. 9 and 10;

Sec. 11, partly unsurveyed, excluding that part within the Grand Canyon National Park;

Secs. 12 and 14, unsurveyed, excluding that part within the Grand Canyon National Park and Navajo Indian Reservation;

Sec. 15, partly unsurveyed, excluding that part within the Grand Canyon National Park;

Secs. 16 and 17;

Sec. 18, excluding that part within the Vermilion Cliffs National Monument;

Sec. 19;

Secs. 20 and 21, partly unsurveyed, excluding that part within the Grand Canyon National Park;

Secs. 22 and 27, unsurveyed, excluding that part within the Grand Canyon National Park and Navajo Indian Reservation;

Secs. 28 and 29, partly unsurveyed, excluding that part within the Grand Canyon National Park;

Secs. 30 to 32, inclusive, excluding that part within the Grand Canyon National Park;

Secs. 33, unsurveyed, excluding that part within the Grand Canyon National Park and Navajo Indian Reservation.

T. 39 N., R. 6 E.,

Secs. 13, 23, and 24, excluding that part within the Vermilion Cliffs National Monument;

Sec. 25;

Sec. 26, excluding that part within the Vermilion Cliffs National Monument;

Sec. 27, excluding that part within the Vermilion Cliffs National Monument and the Grand Canyon National Park;

Sec. 33, S½NE¼, SE¼SW¼, and SE¼, excluding that part within the Vermilion Cliffs National Monument;

Secs. 34 and 35, excluding that part within the Grand Canyon National Park;

Sec. 36, partly unsurveyed, excluding that part within the Grand Canyon National Park.

T. 39 N., R. 7 E.,

Sec. 3, excluding that part within the Grand Canyon National Park and Navajo Indian Reservation;

Sec. 4, partly unsurveyed, excluding that part within the Grand Canyon National Park, Vermilion Cliffs National Monument, and Navajo Indian Reservation;

Secs. 5, 7, and 8, excluding that part within the Vermilion Cliffs National Monument;

Secs. 9 and 16, partly unsurveyed, excluding that part within the Grand Canyon National Park and Navajo Indian Reservation;

Sec. 17, excluding that part within the Grand Canyon National Park;

Sec. 18, excluding that part within the Vermilion Cliffs National Monument;

Sec. 19;

Sec. 20, and Secs. 29 to 31, inclusive, partly unsurveyed, excluding that part within the Grand Canyon National Park and Navajo Indian Reservation.

T. 40 N., R. 7 E.,

Sec. 33, excluding that part within the Grand Canyon National Park and Vermilion Cliffs National Monument;

Sec. 34, excluding that part within the Grand Canyon National Park and Navajo Indian Reservation.

The areas described aggregate approximately 1,006,545 acres of public and National Forest System lands in Coconino and Mohave Counties.

2. The withdrawal made by this order does not alter the applicability of the public land laws other than the Mining Law.

3. This withdrawal will expire 20 years from the effective date of this order unless, as a result of a review conducted before the expiration date pursuant to Section 204(f) of the Federal Land Policy and Management Act of 1976, 43 U.S.C. 1714(f), the Secretary determines that the withdrawal shall be extended.

Authority: 43 CFR 2310.3-3(b)(1).

Dated: January 9, 2012.
Ken Salazar,
Secretary of the Interior.

[FR Doc. 2012-849 Filed 1-17-12; 8:45 am]

BILLING CODE 4310-32-P